DEPARTMENT OF AGRICULTURE

Animal and Plant Health Inspection Service

9 CFR Part 11

[Docket No. APHIS-2011-0009]

RIN 0579-AE19

Horse Protection; Licensing of Designated Qualified Persons and Other Amendments

AGENCY: Animal and Plant Health Inspection Service, USDA.

ACTION: Proposed rule; withdrawal.

SUMMARY: We are withdrawing a proposed rule that would have amended the horse protection regulations with respect to several program practices. We are taking this action to withdraw the proposed rule so that we may reevaluate these program practices based on the findings of research conducted after its publication.

DATES: The Animal and Plant Health Inspection Service is withdrawing the proposed rule published July 26, 2016 (81 FR 49112-49137) as of December 13, 2021.

FOR FURTHER INFORMATION CONTACT: Dr. Lance H. Bassage, VMD, Director, National Policy Staff, Animal Care, APHIS, 4700 River Road, Unit 84, Riverdale, MD 20737; lance.h.bassage@usda.gov, (518) 218-7551.

SUPPLEMENTARY INFORMATION: On July 26, 2016, we published in the Federal Register (81 FR 49112-49137, Docket No. APHIS-2011-0009) a proposal ¹ to amend the regulations relating to the Animal and Plant Health Inspection Service's (APHIS) administration and enforcement of the Horse Protection Act.

¹ To view the proposed rule, supporting documents, and the comments we received, go to www.regulations.gov and enter APHIS-2011-0009 in the Search field.

We solicited comments concerning the proposed rule for a period of 60 days ending September 26, 2016. We subsequently extended the comment period by an additional 30 days, to October 26, 2016. We also held five public listening sessions prior to the close of the comment period.

We received 130,975 comments on the proposed rule through electronic submission, U.S. mail, and courier, as well as comments included in the transcripts from the public hearings. The comments were from State and Federal elected officials, including current and former U.S. Senators and Representatives, State agricultural agencies, farm bureaus, gaited horse organizations, trotting horse federations and organizations, other domestic and foreign horse industry organizations, veterinarians and veterinary associations, horse rescue and animal welfare advocacy organizations, horse owners and trainers, farriers, small business owners, and the general public. Commenters addressed a wide range of proposal topics, including horse inspection practices and penalties, licensing and training of inspectors, the use of action devices, substances, and other practices.

In 2021, the National Academy of Sciences (NAS) reviewed methods for detecting soreness in horses and published a report ² of their findings. The report examined the inspection methods that Designated Qualified Persons use for identifying soreness in walking horses, new and emerging approaches for detecting pain, and use of the scar rule in determining compliance with the Horse Protection Act, and made a number of science-based recommendations regarding revisions to APHIS' Horse Protection Act program and associated regulations. We have reviewed the July 26, 2016 proposed rule in light of the NAS report, and determined that the rule does not sufficiently address the report's findings.

² A Review of Methods for Detecting Soreness in Horses. Washington, DC: The National Academies Press. https://doi.org/10.17226/25949.

Further, it has been more than 5 years since the proposed rule was published and we would likely need to update the underlying data and analyses that supported the proposed rule.

Therefore, for these reasons, we are withdrawing the July 26, 2016 proposed rule referenced above, and will issue a new proposed rule that incorporates more recent findings and recommendations, including the NAS report. The new rulemaking process will allow the public to comment on these and other important issues before the rule is finalized.

Authority: 15 U.S.C. 1823-1825 and 1828; 7 CFR 2.22, 2.80, and 371.7.

Done in Washington, DC, this 6th day of December 2021.
Mark Davidson,
Acting Administrator, Animal and Plant Health Inspection Service.

[FR Doc. 2021-26849 Filed 12-10-21; 8:45 am]

BILLING CODE 3410-34-P